FEDERAL MARITIME COMMISSION

[Petition No. P8-03]

Petition of BAX Global Inc. for Rulemaking; Notice of Filing

Notice is hereby given that Bax Global Inc. (“Petitioner”) has petitioned for the issuance of a rulemaking pursuant to 46 CFR 502.51. Petitioner seeks a rulemaking to amend the Commission's regulations to permit Petitioner to enter into confidential service contracts as “ocean common carriers” with their shipper-clients for the ocean transportation of cargo. Petitioner proposes the following criteria for determining which entities should be authorized to enter confidential service contracts:

1. A substantial U.S. related transportation presence with $100 million annual transportation related gross revenue by itself or affiliated companies;

2. Publicly-held (either directly or through a parent) or is a third party logistics company (e.g., ocean freight forwarder, NVOCC) that is related to an ocean common carrier serving the U.S. trades; and

3. Holding itself out to be a multi-modal logistics maritime transportation provider and historically compliant with U.S. regulations as administered by the Federal Maritime Commission prior to applying to qualify for the right to offer service contracts.

Petitioner asserts that allowing NVOCCs that meet these criteria to enter confidential service contracts without an individual exemption will set a standard that will allow the Commission to continue appropriate regulation and oversight of the NVOCC trade, and provide the Commission and the public with the confidence that only qualified companies are granted this privilege.

In order for the Commission to make a thorough evaluation of the Petition, interested persons are requested to submit views or arguments in reply to the petition no later than October 10, 2003. Replies shall consist of an original and 15 copies, be directed to the Secretary, Federal Maritime Commission, 800 North Capitol Street NW., Washington, DC 20573-0001, and be served on Petitioner's counsel Edward J. Sheppard, Esq., Thompson Coburn LLP, 1909 K Street, NW., Suite 600, Washington, DC 20006. It is also requested that a copy of the reply be submitted in electronic form (WordPerfect, Word or ASCII) on diskette or e-mailed to Secretary@fmc.gov. The Petition will be posted on the Commission's Home Page at http://www.fmc.gov/Docket%20Log/Docket%20Log%20Index.htm. All replies filed in response to the Petition will also be posted on the Commission's Home Page at this location.¹Copies of the Petition also may be obtained by sending a request to the Office of the Secretary, Room 1046, or by calling (202) 523-5725. Parties participating in this proceeding may elect to receive service of the Commission's issuances in this proceeding through e-mail in lieu of service by U.S. mail. A party opting for electronic service shall advise the Office of the Secretary in writing and provide an e-mail address where service can be made. Such request should be directed to secretary@fmc.gov.

¹ Copies of replies to Petition Nos. P3-03, P5-03, P7-03, and P9-03 are also available on the Commission's homepage at the address listed above.

Bryant L. VanBrakle,
Secretary.

[FR Doc. 03-24186 Filed 9-22-03; 8:45 am]

BILLING CODE 6730-01-P